DEPARTMENT OF ENERGY

Federal Energy Regulatory Commission

[Docket No. ER01-2171-000]

Commonwealth Edison Co.; Notice of Filing

June 13, 2001.

Take notice that on June 7, 2001, Commonwealth Edison Company (ComEd) submitted for filing two errata to its May 30, 2001 filing in Docket No. ER01-2171-000 of Service Agreements with EnergyUSA-TPC Corp., Ameren Energy, Inc. and Conoco Gas & Power Marketing, a Division of Conoco, Inc. (CONC). Specifically, ComEd corrected a typo in its transmittal to clarify that it is requesting a May 1, 2001 effective date for the Service Agreements filed on May 30, 2001 in Docket No. ER01-2171-000.

ComEd notes that the requested May 1, 2001 effective date was correctly indicated on its Order 614 designations and the Notice of Filing that were submitted as part of its May 30, 2001 filing. ComEd also corrected the order of an Order 614 designation and one of the CONC Service Agreements.

Copies of the filings were served on the affected customers and on the parties designated on the official service list.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 28, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See 18 CFR 385.2001(a)(1)(iii) and the instructions on the Commission's web site at http://www.ferc.fed.us/efi/doorbell.htm.

David P. Boergers,
Secretary.

[FR Doc. 01-15457 Filed 6-19-01; 8:45 am]

BILLING CODE 6717-01-M